DEPARTMENT OF DEFENSE

Department of the Army, Corps of Engineers

Notice of Availability of the Final Environmental Impact Statement for the Proposed Stormwater Treatment Areas in Everglades Agricultural Area Located in Palm Beach and Hendry Counties, FL

AGENCY: U.S. Army Corps of Engineers, DoD.

ACTION: Notice of availability.

SUMMARY: The U.S. Army Corps of Engineers (USACE) is issuing this notice to advise the public that a Draft Environmental Impact Statement (Draft EIS) has been completed and is available for review and comment.

DATES: In accordance with the National Environmental Policy Act (NEPA), we have filed the Final EIS with the U.S. Environmental Protection Agency (EPA) for publication of their notice of availability in the Federal Register. The EPA notice officially starts the 30-day review period for this document. It is the goal of the USACE to have this notice published on the same date as the EPA notice. However, if that does not occur, the date of the EPA notice will determine the closing date for comments on the Final EIS. Comments on the Final EIS must be submitted to the address below under FOR FURTHER INFORMATION CONTACT and must be received no later than 5 p.m. Eastern Standard Time, Monday, February 9, 2009.

ADDRESSES: The Final EIS can be viewed online at http://www.saj.usace.army.mil/regulatory/index.htm. Copies of the Final EIS are also available for review at the following libraries:

Belle Glade Branch Public Library, 530 S. Main Street, Belle Glade, FL 33430.

Palm Beach County Main Library, 3650 Summit Blvd., W. Palm Beach, FL 33406.

Clewiston Public Library, 120 W. Osceola Ave., Clewiston, FL 33440.

Pahokee Branch Public Library, 525 Bacom Point Rd., Pahokee, FL 33476.

Legislative Library, 701 The Capitol, Tallahassee, FL 32399-1300.

Glades County Public Library, PO Box 505, Riverside Dr., Moorehaven, FL 33471.

South Bay Public Library, 375 SW. 2nd Ave., South Bay, FL 33493.

FOR FURTHER INFORMATION CONTACT: Ms. Alisa Zarbo, Project Manager, U.S. Army Corps of Engineers, Jacksonville District, 4400 PGA Boulevard, Suite 500, Palm Beach Gardens, Florida 33410, Telephone: 772-219-8418, Fax: 561-626-6971.

SUPPLEMENTARY INFORMATION: The South Florida Water Management District (SFWMD) proposes to construct and operate stormwater treatment areas (STAs) on Compartments B and C of the Everglades Agricultural Area in Palm Beach and Hendry Counties, Florida. Compartment B STA will consist of approximately 6,817 acres of effective treatment area, and will be operated in close coordination with the existing STA 2 to assist in the phosphorus reduction capability of this STA, which discharges into Water Conservation Area (WCA) 2A. The Compartment C STA will consist of approximately 4,850 acres of effective treatment area, and will be operated in close coordination with existing STA 5 and STA 6 to assist in the phosphorus reduction capability of these two STAs, which discharge into WCA 3A and Rotenberger Wildlife Management Area. As proposed, the project would impact approximately 7,699 acres and 5,918 acres of jurisdictional wetlands and other waters of the United States associated with the construction of Compartments B and C, respectively. The SFWMD would need to obtain a Department of the Army permit pursuant to Section 404 of the Clean Water Act from the USACE and land use approval from Department of Interior for construction of Compartments B and C which were purchased with federal funds for Everglades restoration. This Final Environmental Impact Statement evaluates the environmental effects of 5 alternatives including the SFWMD's preferred alternative described above, 2 additional alternatives that utilize Compartments B and C but with a different operational regime for Compartment B, an alternative that includes other lands for construction of an STA to assist existing STA 1W and STA 1E, and the no action alternative.

Dated: December 29, 2008.
David S. Hobbie,
Chief, Regulatory Division.

[FR Doc. E9-219 Filed 1-8-09; 8:45 am]

BILLING CODE 3710-AJ-P